ENVIRONMENTAL PROTECTION AGENCY

40 CFR Part 52

[PA-4152a; FRL-7050-1]

Approval and Promulgation of Air Quality Implementation Plans; Pennsylvania; VOC and NOX RACT Determinations for 14 Individual Sources in the Philadelphia-Wilmington-Trenton Area

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for 14 major sources of volatile organic compounds (VOC) and/or nitrogen oxides ( NOX). These sources are located in the Philadelphia-Wilmington-Trenton ozone nonattainment area (the Philadelphia area). EPA is approving these revisions to the SIP in accordance with the Clean Air Act (CAA).

DATES: This rule is effective on October 25, 2001, without further notice, unless EPA receives adverse written comment by October 10, 2001. If EPA receives such comments, it will publish a timely withdrawal of the direct final rule in the Federal Register and inform the public that the rule will not take effect.

ADDRESSES: Written comments should be mailed to David L. Arnold, Chief, Air Quality Planning & Information Services Branch, Air Protection Division, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW, Washington, DC 20460; and the Pennsylvania Department of Environmental Protection, Bureau of Air Quality Control, P.O. Box 8468, 400 Market Street, Harrisburg, Pennsylvania 17105.

FOR FURTHER INFORMATION CONTACT: Ray Chalmers at (215) 814-2061, the EPA Region III address above or by e-mail at chalmers.ray@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major VOC and NOX sources. The major source size is determined by its location, the classification of that area and whether it is located in the ozone transport region (OTR). Under section 184 of the CAA, RACT as specified in sections 182(b)(2) and 182(f) applies throughout the OTR. The entire Commonwealth is located within the OTR. Therefore, RACT is applicable statewide in Pennsylvania.

State implementation plan revisions imposing reasonably available control technology (RACT) for three classes of VOC sources are required under section 182(b)(2). The categories are: (1) All sources covered by a Control Technique Guideline (CTG) document issued between November 15, 1990 and the date of attainment; (2) All sources covered by a CTG issued prior to November 15, 1990; (3) All other major non-CTG rules were due by November 15, 1992. The Pennsylvania SIP has approved RACT regulations and requirements for all sources and source categories covered by the CTGs.

On February 4, 1994, PADEP submitted a revision to its SIP to require major sources of NOX and additional major sources of VOC emissions (not covered by a CTG) to implement RACT. The February 4, 1994 submittal was amended on May 3, 1994 to correct and clarify certain presumptive NOX RACT requirements. In the Philadelphia area, a major source of VOC is defined as one having the potential to emit 25 tons per year (tpy) or more, and a major source of NOX is also defined as one having the potential to emit 25 tpy or more. Pennsylvania's RACT regulations require sources, in the Philadelphia area, that have the potential to emit 25 tpy or more of VOC and sources which have the potential to emit 25 tpy or more of NOX to comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by-case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrates that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/ NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP to satisfy the conditional approval for subject sources located in Bucks, Chester, Delaware, Montgomery and Philadelphia Counties; the limited approval of Pennsylvania's generic VOC and NOX RACT regulations shall convert to a full approval for the Philadelphia area.

It must be noted that the Commonwealth has adopted and is implementing additional “post RACT requirements” to reduce seasonal NOX emissions in the form of a NOX cap and trade regulation, 25 Pa Code Chapters 121 and 123, based upon a model rule developed by the States in the OTR. That rule's compliance date is May 1999. That regulation was approved as a SIP revision on June 6, 2000 (65 FR 35842). Pennsylvania has also adopted regulations to satisfy Phase I of the NOX SIP call and submitted those regulations to EPA for SIP approval. Pennsylvania's SIP revision to address the requirements of the NOX SIP Call Phase I consists of the adoption of Chapter 145—Interstate Pollution Transport Reduction and amendments to Chapter 123—Standards for Contaminants. On May 29, 2001 (66 FR 29064), EPA proposed approval of the Commonwealth's NOX SIP call rule SIP submittal. EPA expects to publish the final rulemaking in the Federal Register in the near future. Federal approval of a case-by-case RACT determination for a major source of NOX in no way relieves that source from any applicable requirements found in 25 PA Code Chapters 121, 123 and 145.

II. Summary of the SIP Revisions

On December 7, 1998, February 2, 1999, April 20, 1999, March 23, 2001 (two separate submissions), and July 5, 2001, PADEP submitted revisions to the Pennsylvania SIP to establish and impose RACT for several sources of VOC and/or NOX. This rulemaking pertains to fourteen (14) of those sources. The remaining sources are or have been the subject of separate rulemakings. The Commonwealth's submittals consist of plan approvals and operating permits which impose VOC and/or NOX RACT requirements for each source. These sources are all located in the Philadelphia area. The table below identifies the sources and the individual plan approvals (PAs) and operating permits (OPs) which are the subject of this rulemaking. A summary of the VOC and/or NOX RACT determinations for each source follows the table.

Pennsylvania—VOC and NOX RACT Determinations for Individual Sources
Source | County | PA # or OP # | Source type | Pollutant
Aldan Rubber Company | Philadelphia | PA-1561 | Rubber Coated Fabric Maker | VOC.
Arbill Industries, Inc | Philadelphia | PA-51-3811 | Industrial Laundry | VOC.
Bethlehem Lukens Plate | Montgomery | OP-46-0011 | Steel Plate Production | NOX & VOC.
Braceland Brothers, Inc | Philadelphia | PA-3679 | Printing Facility | VOC.
Graphic Arts, Inc. | Philadelphia | PA-2260 | Printing Facility | VOC.
International Business Systems | Montgomery | OP-46-0049 | Printing Facility | VOC.
McWhorter Technologies | Philadelphia | PA-51-3542 | Specialty Resins Producer | VOC.
Montenay Montgomery Ltd | Montgomery | OP-46-0010A | Municipal Waste Combustor | NOX.
Newman and Company | Philadelphia | PA-3489 | Paperboard Producer | NOX.
Northeast Foods | Bucks | OP-09-0014 | Bakery | VOC.
Northeast Water Pollution Control Plant (Philadelphia Water Department) | Philadelphia | PA-51-9513 | Wastewater Treatment Plant | VOC & NOX.
O'Brien (Philadelphia) Cogeneration, Inc.—Northeast Water Pollution Control Plant | Philadelphia | PA-1533 | Electric Generation Facility | NOX.
O'Brien (Philadelphia) Cogeneration, Inc.—Southwest Water Pollution Control Plant | Philadelphia | PA-1534 | Electric Generation Facility | NOX.
Pearl Pressman Liberty | Philadelphia | Plan Approval #7721 | Printing Facility | VOC.

A. Aldan Rubber Company

Aldan Rubber Company (Aldan) has a plant located in Philadelphia, Pennsylvania which produces custom rubber coated fabric. Several installations at this source are subject to categoric specific SIP-approved RACT requirements adopted by the Commonwealth in accordance with applicable CTGs. The small boiler is subject to the SIP-approved presumptive RACT for NOX found at 25 Pa. Code 129.93 (b)(2). Forty-two mixing churns and a crumber unit require case-by-case RACT determinations to control VOCs. The Philadelphia Air Management Services (AMS) issued PA-1561 to Aldan to establish and impose RACT. The PADEP submitted PA-1561 to EPA as a SIP revision on behalf of the AMS. PA-1561 establishes RACT for the 42 rubber-solvent churns as the use of a carbon adsorber system, which PA-1561 requires to be maintained in accordance with manufacturer's specifications. PA-1561 establishes RACT for the crumber unit as use of a condenser. The PA requires the crumber condenser temperature to be maintained at less than 80 degrees F. The PA also specifies that the crumber unit's VOC emissions shall be limited to 4 pounds per hour and 2.7 tons per year. PA-1561 requires a control efficiency test on the carbon adsorber unit once every five years, and also requires records to be kept of the concentration of organic material in the exhaust of the carbon adsorber unit and of the maintenance conducted on the unit. PA-1561 requires a daily log to be kept of the temperature of the crumber condenser. In addition, PA-1561 requires Aldan to keep all the records and other data required to demonstrate compliance with the RACT requirements of 25 Pa. Code 129.91-129.94.

B. Arbill Industries, Inc.

Arbill Industries, Inc. (Arbill) has a plant in Philadelphia, Pennsylvania which is an industrial laundry and petroleum based dry-cleaning facility. Arbill is a major source of VOC. The AMS issued Arbill Industries PA-51-3811 to establish RACT. The PADEP submitted PA-51-3811 to EPA as a SIP revision on behalf of the AMS. The facility consists of several VOC emitting sources including 2 heavy-duty petroleum solvent dry cleaning washers, 10 textile dryers with built-in condensers, 3 vacuum stills for petroleum solvent, and 26 hampers. PA-51-3811 requires a RACT program consisting of the reduction of evaporative losses from washing, drying, and transfer operations. This program includes the following: (1) eliminating fugitive emissions from the dryer by replacement of the cooling towers to allow the cooling water in the dryer condensers to be kept at the constant temperatures required for complete recovery; (2) using of petroleum cleaning solvents that have higher flash points; ( 3) retrofitting the Hoyt dryers with three temperature gauges, installed next to the loading door, to measure the temperature of the dryer, of the air exiting the condenser, and of the outlet water from the condenser; (4) maintaining the proper operating temperature range for each dryer; (5) not operating any dryer that is not within the proper operating temperature range; (6) placing covers over all hampers used to transfer textiles after the wash cycle to reduce fugitive emissions; and (7) placing covers over all hampers containing solvent laden textiles awaiting processing. PA-51-3811 requires Arbill to keep records of solvent usage, of solvent chemical composition, of solvent purchases and inventories, of the reconciliation of solvent purchases and inventories with actual usage, of the three temperature readings from each Hoyt dryer (taken once per load per dryer), and of the operating hours of each unit. PA-51-3811 also requires Arbil to keep all records and other data required to demonstrate compliance with the RACT requirements of 25 Pa. Code 129.91-129.94.

C. Bethlehem Lukens Plate

Bethlehem Lukens Plate (Bethlehem) operates a plant located in Montgomery County, Pennsylvania which produces carbon, alloy, and stainless steel plates. Bethlehem is a major source of NOX and VOC. Many installations and processes at this source are subject to categoric specific SIP-approved RACT requirements adopted by the Commonwealth in accordance with applicable CTGs and to SIP-approved presumptive RACT requirements to control NOX. Other installations and processes require case-by-case RACT determinations. The PADEP issued Bethlehem OP-46-0011 to establish RACT. OP-46-0011 establishes the following NOX RACT emission limits:

Furnace | NOX emission limit, tons per year*
Slab Heating Furnace | 85.97
Slab Heating Furnace | 187.34
Rose Annealing Furnace | 36.84
Quench Furnace | 50.55
Temper Furnace | 19.78
* To be met on a 12-month rolling basis.

OP-46-0011 also requires the fuel usage of the furnaces to be limited as per the following Table and the annual NOX emissions to be determined by multiplying the annual usage of natural gas by the corresponding emission factor:

Source | NG fuel usage (thousand cubic feet): Monthly | NG fuel usage (thousand cubic feet): Annual | Emission factor: LB NOX/1000CF NG
Slab Heating Furnace 1 | 156,240 | 1,874,880 | 0.388
Slab Heating Furnace 2 | 151,821 | 1,821,848 | 0.198
Rose Annealing Furnace | 46,988 | 575,856 | 0.140
Quench Furnace | 74,638 | 895,657 | 0.140
Temper Furnace | 23,570 | 282,839 | 0.100

In addition, OP-46-0011 also specified that RACT for the furnaces includes maintenance and operation in accordance with manufacturer's specifications as well as in accordance with good air pollution control practices. OP-46-0011 also includes requirements which make four emergency generators rated at 1000, 300, 150, and 125 KW subject to the presumptive NOX RACT requirements of 25 Pa. Code section 129.93(c)(5). The permit requires that they shall not operate more than 500 hours in any consecutive 12 month period. The permit also requires that they be maintained and operated in accordance with manufacturers' specifications as well as in accordance with good air pollution control practices. With respect to VOC emissions, OP-46-0011 requires that the VOC emissions from each of the following sources or processes shall never exceed 3 pounds per hour, 15 pounds per day, or 2.7 tons per year: a 200 HP steam generator, a 300 HP steam generator, a Drever furnace, a quench furnace, a temper furnace, slab heating furnaces No. 1 and No. 2, miscellaneous cutting torches, a rose annealing furnace, space heaters, slab preheaters No. 1 through No. 4, APB Preheaters No. 1 through No. 3, four emergency generators (1000 KW, 300 KW, 150KW, & 125 KW), one emergency waste water treatment plant (WWTP) diesel pump, above ground storage tanks, a propane vaporizer, VOC emissions from miscellaneous cleaning fluids used for maintenance, Safety-Kleen or similar parts washers, freeze protection, VOC emissions from miscellaneous maintenance painting, and VOC emissions from maintenance lubricant sprays. The permit also requires that these units or operations shall be maintained and operated in accordance with manufacturers' specifications as well as in accordance with good air pollution control practices. OP-46-0011 requires Lukens to keep records of the fuel used per month for each furnace on a 12-month rolling basis, the number of hours of operation in any 12 consecutive month period for each emergency generator described in Condition 6, and of all additional data required by 25 Pa. Code 129.95.

D. Braceland Brothers, Inc.

Braceland Brothers, Inc. is a printing facility located in Philadelphia, Pennsylvania. Braceland is a major source of VOC. The AMS issued PA-3679 to establish RACT. The PADEP submitted PA-3679 to EPA as a SIP revision on behalf of the AMS. PA-3679 establishes RACT requirements for 1 non-heatset web offset lithographic printing press, 3 heatset web offset lithographic printing presses, and 2 non-heatset sheetfed offset lithographic printing presses. PA-3679 specifies that RACT consists of the use of inks, fountain solutions, and cleaning solutions which meet specified lower VOC content limitations. PA-3679 requires that the VOC fraction of the ink (minus water), as applied to the substrate, shall not exceed 25 percent by weight. PA-3679 also requires that the VOC content of the fountain solutions for the web presses, as applied, shall be maintained at or below 5.0 percent by weight, and that the fountain solutions shall contain no alcohol. PA-3679 also specifies that the VOC content of the fountain solutions for the sheetfed presses, as applied, shall be maintained at or below 5.0 percent by weight or shall be maintained at or below 8.5 percent by weight and refrigerated to 60 degrees F or less. Finally, PA-3679 specifies that cleaning solutions shall either: (1) Have a VOC content, as applied, less than or equal to 30 percent by weight, (2) have a VOC composite partial pressure, as used, less than or equal to 10 mm Hg at 68 degrees F, or (3) be used in amounts which do not exceed 55 gallons over any 12-month rolling period. PA-3679 requires that detailed records to be kept pertaining to the inks, fountain solutions, and cleaning solutions to determine compliance. The PA also specifies that a record of VOC emissions per press, using a mass balance equation, shall be shall be maintained on a rolling 12 month basis. In addition, it requires that material purchases and inventories shall be maintained and reconciled with actual usage. PA-3679 also contains a general requirement to keep all the records and other data needed to demonstrate compliance with the VOC RACT requirements of 25 Pa. Code § 129.91-129.94.

E. Graphic Arts, Inc.

Graphic Arts, Inc. is a lithographic printing facility located in Philadelphia, Pennsylvania. The plant is a major source of VOC. The AMS issued PA-2260 to establish and impose RACT. The PADEP submitted PA-2260 to EPA as a SIP revision on behalf of the AMS. PA-2260 establishes RACT for five non-heatset sheetfed lithographic printing presses. PA-2260 requires as the use of: (1) Inks with a VOC fraction of no more than 25 percent by weight; (2) fountain solutions with a VOC fraction of no more than 20 percent by volume; and (3) cleaning solutions with either a VOC content (as applied) less than or equal to 30 percent by weight, or a VOC composite partial pressure (as used) less than or equal to 10 mm Hg at 68 degrees F, or which are used in quantities which do not exceed 55 gallons over any 12-month rolling period. To determine compliance with these requirements, PA-2260 requires detailed records to be kept pertaining to the inks, fountain solutions, and cleaning solutions. The permit also contains a general requirement to keep all the records and other data needed to demonstrate compliance with the VOC RACT requirements of 25 Pa. Code 129.91-129.94.

F. International Business Systems, Inc.

International Business Systems, Inc. (International Business Systems) is a printing facility located in Montgomery County, Pennsylvania. The plant is a major source of VOC. PADEP issued OP-46-0049 to establish and impose RACT. OP-46-0049 includes RACT requirements for 10 non-heatset web offset lithographic printing presses, eight tinting units, and miscellaneous units. OP-46-0049 requires that the VOC emissions from the presses be limited to 18 tons per year on a 12-month rolling basis, and limits the VOC emissions from clean-up solvents to 16 tons per year on a 12-month rolling basis. The permit also requires all inks used to be non-heatset inks containing less than 35 percent VOC by weight. Further, OP-46-0049 requires the VOC content of the wetting/fountain solutions when using UV cured inks to be 8 percent or less as applied. However, the permit provides that an “alternative” fountain solution which does not exceed 10% VOC by weight may be used if the company notifies the PADEP that compliance wetting /fountain solutions are not available. The use of the alternative fountain solution is allowed only until an appropriate lower VOC content fountain solution becomes available. OP-46-0049 limits emissions from the tinting units to 30 tons per year on a 12 month rolling basis. In addition, the permit specifies that operation and maintenance of all VOC emitting units must be in accordance with manufacturer's specifications and good air pollution control practices. Finally, OP-46-0049 specifies that all solvent laden containers shall be closed at all times except during filling or draining, and that all solvent laden towels shall be placed in closed containers immediately after use and then disposed of to minimize VOC emissions. The facility also has some additional miscellaneous VOC emitting equipment, including 1 film and 2 plate processors, 7 collating machines, an alcohol storage tank, 4 parts washers, several space heaters, and a natural gas fired emergency electric generator. The permit limits VOC emissions from these source groups to less than 3 pounds per hour, 15 pounds per day, or 2.7 tons per year. It also requires operation and maintenance in accordance with manufacturer's specifications and good air pollution control practices. OP-46-0049 requires detailed records to be kept pertaining to the inks, fountain solutions, and cleaning solutions. The permit also requires that records be kept in accordance with 25 Pa. Code 129.95.

G. McWhorter Technologies, Inc.

McWhorter Technologies Inc. (McWhorter), located in Philadelphia, Pennsylvania, produces specialty resins used by the coatings industry. McWhorter is a major source of VOC. The AMS issued PA-51-3542 to establish RACT. The PADEP submitted PA-51-3542 to EPA as a SIP revision on behalf of the AMS. PA-51-3542 establishes RACT requirements for reactor vessels, storage tanks, thinning tanks, a scrubber, boilers, space heaters and other combustion equipment. RACT is specified as the: (1) Use of temperature controllers on packed columns to prevent excess vapor loss in reactors, (2) use of an automatic caustic feed system for the scrubber, (3) use of conservation vents on all fixed roof tanks, (4) use of a heat exchanger in the wastewater treatment system to reduce emissions from storage tanks during processing, (5) use of carbon canisters to treat vapor from the wastewater tanks, (6) closure of all storage vessel lids except during transfer operations, (7) use of mechanical or equivalent seals on all pumps, (8) use of caps, blind flanges, plugs, or second valves to seal open end lines at all times, except during operations, maintenance, or repairs which require process fluid flow through open-ended valves or lines, and (9) use of an equipment inspection and maintenance program. PA-51-3542 requires the Company to keep all records and other data required to demonstrate compliance with RACT requirements of 25 Pa. Code 129.91-129.94.

H. Montenay Montgomery Limited Partnership

Montenay Montgomery Limited Partnership operates a municipal waste combustor in Montgomery County, Pennsylvania. The facility is a major source of NOX. The PADEP issued OP-46-0010A to establish and impose RACT. The plant has two municipal waste combustors, each rated to burn 600 tons of waste per day. OP-46-0010A specifies that air contaminant emissions from the two municipal waste combustors must be controlled through the use of individual Research-Cottrell spray dryer absorber using Sorbalit 1 reagent to control mercury and acid gases, Research-Cottrell fabric collectors and a selective non-catalytic reduction (SNCR) control system. OP-46-0010A requires that NOX emissions per combustor (expressed as NO2) shall not exceed a 24-hour daily arithmetic average of 205 parts per million by volume, corrected to 7 percent oxygen, dry basis and, in accordance with 40 CFR 60.33b(d), 109 pounds per hour, and 477.4 tons per year. OP-46-0010A also specifies that the facility shall comply with all applicable requirements in 40 CFR part 60, subpart Cb (relating to Emission Guidelines and Compliance Times for large Municipal Waste Combustors that are constructed on or before September 20, 1994). The permit requires that compliance with the NOX limits be monitored using continuous emissions monitors. OP-46-0010A requires the facility to keep records of air pollution control system evaluations and records of calibration checks, adjustments, and maintenance on all equipment is subject to the its requirements. In addition to the incinerators, the facility is equipped with an emergency diesel-fired generator. OP-46-0010A specifies that the generator shall not be operated in excess of 500 hours in a consecutive 12 month period, which makes the emergency generator subject to the presumptive RACT requirements specified at 25 Pa. Code Section 129.93(c). OP-46-0010A also specifies that the generator shall be operated and maintained in accordance with the manufacturer's specifications and good air pollution control practices.

I. Newman and Company

Newman and Company (Newman) is a paperboard production facility located in Philadelphia, Pennsylvania. The plant is a major source of NOX. Many installations and processes at this facility are subject to and to SIP-approved presumptive RACT requirements to control NOX. The AMS issued PA-3489 to establish and impose RACT. The PADEP submitted PA-3489 to EPA as a SIP revision on behalf of the AMS. PA-3489 limits NOX emissions from the Union Ironwork boiler (which has a rated firing rate of 118 million Btu per hour and which uses either natural gas or #6 oil as a fuel) to 121 tons per year on a rolling 12-month basis. It also establishes NOX emissions limits for the boiler of 0.37 lbs/MMBtu when firing natural gas and of 0.43 lbs/MMBtu when firing #6 oil. In addition, PA-3489 requires an annual tune-up of the boiler to be done to ensure that it is meeting the operating standards as specified by the manufacturer. PA-3489 requires a stack test to be done once every five years to determine the boiler's NOX emissions. PA-3489 also requires the facility to use emissions factors in lbs. NOX/MMBtu from the most recent stack test to calculate the rolling 12-month total of NOX emissions from the boiler. PA-3489 further requires the company to submit quarterly reports which shall include the type and amount of fuels burned each day, the heat content of each fuel, the total heating value of the fuel consumed each day, and the 12-month rolling NOX totals for each individual month in the quarter. PA-3489 also requires the company to keep all records and other data required to demonstrate compliance with RACT requirements of 25 Pa. Code 129.91-129.94.

J. Northeast Foods, Inc.

Northeast Foods, Inc. (Northeast Foods),located in Bucks County, Pennsylvania, produces hamburger rolls and English muffins. The plant is a major source of VOC emissions. PADEP issued OP-09-0014 to establish and impose RACT. OP-09-0014 establishes RACT requirements for three natural gas-fired griddles used to bake English Muffins, a natural gas-fired oven used to bake rolls, and two natural gas-fired boilers with heat input ratings of 6.3 MMBtu/hr each. OP-09-0014 establishes VOC RACT as operation in accordance with manufacturer's specifications and good air pollution control practices. In addition, the permit requires muffin griddle line 3 to remain shutdown and the natural gas line to that oven be turned off. OP-09-0014 specifies that reactivation of this muffin line will require the company to comply with 25 Pa. Code, Chapter 127. The permit requires the company to keep records demonstrating compliance in accordance with its requirements and 25 Pa. Code 129.95. Among other things, the permit requires the Company to record the types and amounts of product produced monthly, the initial yeast content and total yeast action time for each product produced monthly, the spike yeast content and spiking time for each product produced monthly, and the monthly operating hours of each of the ovens.

K. Northeast Water Pollution Control Plant (Philadelphia Water Department)

The Northeast Water Pollution Control Plant , which is operated by the Philadelphia Water Department, is a publicly owned wastewater treatment plant. The plant is a major source of VOC and NOX. The NOX emitting installations and processes at this facility are subject to SIP-approved presumptive RACT requirements of 25 Pa. Code 129.93. The AMS issued PA-51-9513 to establish and impose RACT. The PADEP submitted PA-51-9513 to EPA as a SIP revision on behalf of the AMS. The plant emits VOCs from the wastewater treatment process. Excess gas produced by the anaerobic digestion of sludge is flared through waste gas burners. PA-51-9513 specifies that VOC RACT for the wastewater treatment process is adhering to an established good maintenance and operation program. The permit requires the company to determine VOC emissions on a daily basis using the results of a wastewater influent sample taken on a 24 hour basis and the computer program called “TOXCHEM.” The permit also requires the Department to keep all records and other data required to demonstrate compliance with the requirements of 25 Pa. Code 129.91-129.94. Among other things, these records are required to include daily influent wastewater flow and associated parameters, and the monthly VOC concentration of the influent. The permit also requires the Department to submit a report on a semi-annual basis which provides, among other things, the monthly VOC emissions from the facility.

L. O'Brien (Philadelphia) Cogeneration, Inc.—Northeast Water Pollution Control Plant

O'Brien (Philadelphia) Cogeneration, Inc. (O'Brien), located at the City of Philadelphia's Northeast Water Pollution Control Plant, generates electricity. The AMS issued PA-1533 to establish and impose RACT. The PADEP submitted PA-1533 to EPA as a SIP revision on behalf of the AMS. PA-1533 limits the non-methane hydrocarbons from the facility to 1.12 grams per brake horsepower, 31 pounds per hour, and 21tons per year. PA-1533 does establish and impose NOX RACT requirements for the facility's three Caterpillar Gas engines, rated at 650 kW, 500 kW, and 225 kW, all of which burn digester gas. It also imposes RACT to control NOX from the facility's seven standby Detroit Diesel engines, each rated at 2340 HP, which burn diesel fuel. PA-1533 requires that the facility's NOX emission rate shall not exceed 2.00 grams per brake horsepower-hour, 80.00 pounds per hour, and 40 tons per year. PA-1533 also requires the NOX emissions of the Detroit Diesel engines be vented to a selective catalytic reduction (SCR) system. In addition, PA-1533 specifies that the company shall operate each of the Caterpillar Gas engines a maximum of 8000 hours per year and that it shall operate each of the Detroit Diesel engines a maximum of 250 hours per year. PA-1533 also requires the company to perform a routine maintenance program on each Caterpillar Gas and Detroit Diesel engine every six months. PA-1533 requires that the operating parameters of the engines and the SCR system be maintained to those established as conditions during the time they were stack tested (which occurred at the time of installation). PA-51-1533 requires the Company to keep all records required to demonstrate compliance with the NOX RACT requirements of 25 Pa. Code 129.91-129.94. These records are required to include operating hours, fuel and lube oil consumption, fuel-to-air ratio, kilowatt hours produced, flow rate, temperature and pressure drop across the SCR, the ammonia flow rate, and records of the routine maintenance program.

M. O'Brien (Philadelphia) Cogeneration, Inc.—Southwest Water Pollution Control Plant

O'Brien (Philadelphia) Cogeneration, Inc. (O'Brien) also operates another cogeneration plant at the City of Philadelphia's Southwest Water Pollution Control Plant. The AMS issued PA-1534 to establish and impose RACT for NOX. The PADEP submitted PA-1534 to EPA as a SIP revision on behalf of the AMS. PA-1534 restricts the facility's non-methane hydrocarbon emissions to 1.12 grams per brake horsepower, 31 pounds per hour, and 15 tons per year. PA-1534 NOX RACT requirements for two Dorman Engines and ten standby Detroit Diesel Engines. The Dorman Engines burn digester gas and are each rated at 593 HP. The Detroit Diesel engines are each rated at 1550 HP and burn diesel fuel. PA-1534 requires that the facility's NOX emissions not exceed 2.00 grams per brake horsepower-hour, 80.32 pounds per hour, and 30 tons per year. PA-1534 also requires that the NOX emissions of the Detroit Diesel engines be controlled by a selective catalytic reduction (SCR) system. In addition, PA-1534 requires that the facility operate each of the Dorman engines a maximum of 8000 hours per year and each of the Detroit Diesel engines a maximum of 250 hours per year. PA-1534 also requires the Company to perform a routine maintenance program on each Dorman and Detroit Diesel engine every six months. Finally, PA-51-1534 requires the Company to operate the engines and the SCR system using the same operating parameters as were established as operating conditions when the engines were stack tested (which occurred at the time of installation). PA-1534 requires the facility to keep all records required to demonstrate compliance with the NOX RACT requirements of 25 Pa. Code Sections 129.91-129.94. These records are required to include operating hours, fuel and lube oil consumption, fuel-to-air ratio, kilowatt hours produced, flow rate, temperature and pressure drop across the SCR, the ammonia flow rate, and records of the routine maintenance program.

N. Pearl Pressman Liberty

Pearl Pressman Liberty (Pearl Pressman) operates a printing facility in Philadelphia, Pennsylvania. The facility is a major source of VOC. The AMS issued PA-7721 to establish and impose RACT. The PADEP submitted PA-7721 to EPA as a SIP revision on behalf of the AMS. PA-7721 establishes VOC RACT for 5 non-heatset sheet-fed offset lithographic presses. PA-7721 requires as RACT that this facility use: (1) Inks with a VOC fraction of no more than 25 percent by weight; (2) fountain solutions with a VOC fraction of no more than 20 percent by volume; and (3) cleaning solutions with a VOC content (as applied) less than or equal to 30 percent by weight, or a VOC composite partial vapor pressure (as used) less than or equal to 10 mm Hg at 68 degrees F, or be used in an amount that does not exceed 55 gallons over any 12-month rolling period (except at the automatic blanket cleaner associated with press #1). PA-7721 specifies that the Company may use cleaning solutions at the automatic blanket cleaner associated with press #1 which do not meet the above VOC content or partial vapor pressure requirements if the VOC emissions from the cleaning solutions are not greater than 5 tons per rolling 12 month period. To determine compliance with these requirements, PA-7721 requires detailed records to be kept pertaining to the inks, fountain solutions, and cleaning solutions. The permit also contains a general requirement to keep all the records and other data needed to demonstrate compliance with the VOC RACT requirements of 25 Pa. Code 129.91-129.94.

III. EPA's Evaluation of Pennsylvania's SIP Revisions

EPA is approving Pennsylvania's RACT SIP submittals because the AMS and PADEP established and imposed these RACT requirements in accordance with the criteria set forth in the SIP-approved RACT regulations applicable to these sources. The AMS and PADEP have also imposed record-keeping, monitoring, and testing requirements necessary to be able to determine compliance with the applicable RACT determinations.

IV. Final Action

EPA is approving the SIP revisions to the Pennsylvania SIP submitted by PADEP to establish and require VOC and/or NOX RACT for 14 major sources located in the Philadelphia area. EPA is publishing this rule without prior proposal because the Agency views this as a noncontroversial amendment and anticipates no adverse comment. However, in the “Proposed Rules” section of today's Federal Register, EPA is publishing a separate document that will serve as the proposal to approve the SIP revision if adverse comments are filed. This rule will be effective on October 25, 2001 without further notice unless EPA receives adverse comment by October 10, 2001. If EPA receives adverse comment, EPA will publish a timely withdrawal in the Federal Register informing the public that the rule will not take effect. EPA will address all public comments in a subsequent final rule based on the proposed rule. EPA will not institute a second comment period on this action. Any parties interested in commenting must do so at this time. Please note that if adverse comment is received for a specific source or subset of sources covered by an amendment, section or paragraph of this rule, only that amendment, section, or paragraph for that source or subset of sources will be withdrawn.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for 14 named sources.

C. Petitions for Judicial Review

Under section 307(b)(1) of the Clean Air Act, petitions for judicial review of this action must be filed in the United States Court of Appeals for the appropriate circuit by November 9, 2001. Filing a petition for reconsideration by the Administrator of this final rule does not affect the finality of this rule for the purposes of judicial review nor does it extend the time within which a petition for judicial review may be filed, and shall not postpone the effectiveness of such rule or action. This action approving the Commonwealth's source-specific RACT requirements to control VOC and/or NOX from 14 individual sources in the Philadelphia area of Pennsylvania may not be challenged later in proceedings to enforce its requirements. (See section 307(b)(2).)

List of Subjects in 40 CFR Part 52

Environmental protection, Air pollution control, Hydrocarbons, Incorporation by reference, Nitrogen dioxide, Ozone, Reporting and recordkeeping requirements.

Dated: August 29, 2001.
Thomas C. Voltaggio,
Acting Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(185) to read as follows:

§ 52.2020 Identification of plan.

* * * * *

(c) * * *

(185) Revisions to the Pennsylvania Regulations, Chapter 129 pertaining to VOC and NOX RACT for 14 sources located in the Philadelphia area, submitted by the Pennsylvania Department of Environmental Protection on December 7, 1998, February 2, 1999, April 20, 1999, March 23, 2001 (two separate submissions), and July 5, 2001.

(i) Incorporation by reference.

(A) Letters submitted by the Pennsylvania Department of Environmental Protection transmitting source-specific VOC and/or NOX RACT determinations, in the form of plan approvals and operating permits December 7, 1998, February 2, 1999, April 20, 1999, March 23, 2001 (two separate submissions), and July 5, 2001.

(B) Plan approvals (PA), Operating permits (OP) issued to the following sources:

(1) International Business Systems, Inc., OP-46-0049, effective October 29, 1998 and as revised December 9, 1999, except for the expiration date.

(2) Bethlehem Lukens Plate, OP-46-0011, effective December 11, 1998, except for the expiration date.

(3) Montenay Montgomery Limited Partnership, OP-46-0010A, effective April 20, 1999 and as revised June 20, 2000, except for the expiration date.

(4) Northeast Foods, Inc., OP-09-0014, effective April 9, 1999, except for the expiration date.

(5) Aldan Rubber Company, PA-1561, effective July 21, 2000, except for conditions 1.A.(1), 1.A.(2) and 1.A.(4); and conditions 2.A. and 2.C.

(6) Braceland Brothers, Inc., PA-3679, effective July 14, 2000.

(7) Graphic Arts, Incorporated, PA-2260, effective July 14, 2000.

(8) O'Brien (Philadelphia) Cogeneration, Inc.—Northeast Water Pollution Control Plant, PA-1533, effective July 21, 2000.

(9) O'Brien (Philadelphia) Cogeneration, Inc.-Southwest Water Pollution Control Plant, PA-1534, effective July 21, 2000.

(10) Pearl Pressman Liberty, PA-7721, effective July 24, 2000.

(11) Arbill Industries, Inc., PA-51-3811, effective July 27, 1999, except for condition 5.

(12) McWhorter Technologies, PA-51-3542, effective July 27, 1999, except for condition 2.B. and condition 5.

(13) Northeast Water Pollution Control Plant, PA-51-9513, effective July 27, 1999, except for condition 1.A.(1), conditions 2.A. and 2.B., and condition 7.

(14) Newman and Company, PA-3489, effective June 11, 1997.

(ii) Additional Materials—Other materials submitted by the Commonwealth of Pennsylvania in support of and pertaining to the RACT determinations for the sources listed in (c)(185)(i)(B).

[FR Doc. 01-22614 Filed 9-7-01; 8:45 am]

BILLING CODE 6560-50-P